DEPARTMENT OF JUSTICE

Office of Attorney Personnel Management, Justice Management Division; Agency Information Collection Activities; Extension of a Currently Approved Collection; Comment Request

ACTION: Application booklets—Attorney General's Honor Program, Summer Law Intern Program.

The Department of Justice, Justice Management Division, Office of Attorney Personnel Management, has submitted the following information collection request for review and clearance in accordance with the Paperwork Reduction Act of 1995. The proposed information collection is published to obtain comments from the public and affected agencies. Comments are encouraged and will be accepted for sixty days until April 24, 2000.

Pursuant to 28 CFR 0.15(b)(2), the Deputy Attorney General of the United States Department of Justice has the responsibility of administering the “Attorney General's recruitment program for honor law graduates and judicial law clerks.” This includes the hiring of third-year law students and judicial law clerks for full-time employment following graduation or completion of a clerkship, and primarily second-year law students for summer employment. This program has been in existence for 46 years, and is considered the Federal Government's premier legal recruitment program. The Department of Justice currently hires approximately 150-160 third-year law students/judicial law clerks and 135 second-year law students each year under these programs. The Department of Justice is the largest legal employer in the country. Approximately 5,000 applications are received for these positions annually.

The responsibility for running these programs has been delegated by the Deputy Attorney General to the Director, Office of Attorney Personnel Management (OAPM) pursuant to 28 CFR §§ 0.15(c) and 0.15(e). OAPM together with other Department of Justice representatives who make the ultimate hiring determinations have developed these application booklets to distribute information on the programs and in turn collect the information they consider essential to make an informed hiring decision on legal applicants.

Your comments should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of the information on those who are to respond, including through the use of appropriate automated, electronic, mechanical, or other technological collection techniques or other forms of information technology, e.g., permitting electronic submission of responses.

Comments and/or suggestions regarding the item(s) contained in this notice, especially regarding the estimated public burden and associated response time should be directed to the Office of Attorney Personnel Management, U.S. Department of Justice, Attn: Eleanor Barry, Room 3525, 950 Pennsylvania Avenue, NW, Washington, DC 20530-0001.

Overview of this information collection:

(1) Type of Information Collection: Extension of a currently approved collection.

(2) Title of the Form/Collection: Application Booklets—Attorney General's Honor Program, Summer Law Intern Program.

(3) Agency form number, if any, and the applicable component of the Department of Justice sponsoring the collection: Form Number: None. Office of Attorney Personnel Management, Justice Management Division, U.S. Department of Justice.

(4) Affected public who will be asked or required to respond, as well as a brief abstract: Primary: Individuals or households. Other: None. This data collection is the only vehicle for the Department of Justice (DOJ) to hire graduating law students. This application form is submitted voluntarily, submitted only once a year by students/judicial law clerks who will be in this applicant pool only once; and the information sought only relates to the hiring criteria established as an internal matter by DOJ personnel.

(5) An estimate of the total number of respondents and the amount of time estimated for an average respondent to respond: 5,000 respondents at 1 hour per response.

(6) An estimate of the total public burden (in hours) associated with the collection: 5,000 annual hours.

If additional information is required contact Mr. Robert B. Briggs, Clearance Officer, United States Department of Justice, Information Management and Security Staff, Justice Management Division, Suite 1220, 1331 Pennsylvania Avenue, NW, Washington, DC 20530.

Dated: February 16, 2000.
Robert B. Briggs,
Department Clearance Officer, Department of Justice.

[FR Doc. 00-4105 Filed 2-18-00; 8:45 am]

BILLING CODE 4410-26-M